NUCLEAR REGULATORY COMMISSION

[EA-07-180, Docket No.: 70-7004, License No.: SNM-2011]

In the Matter of USEC, Inc., American Centrifuge Plant; Order Modifying License For Additional Security Measures (Effective Immediately)

I

USEC Inc. (USEC or the Licensee) is the holder of Special Nuclear Material (SNM) License No. SNM-2011, for the American Centrifuge Plant (ACP), issued by the U.S. Nuclear Regulatory (NRC or Commission) pursuant to 10 CFR Part 70. This license authorizes the Licensee to construct and operate a uranium enrichment facility, in accordance with the Atomic Energy Act (AEA) of 1954, as amended, and 10 CFR Parts 30, 40, and 70. The USEC license was issued on April 13, 2007, and is due to expire on April 13, 2037.

II

On September 11, 2001, terrorists simultaneously attacked targets in New York, NY, and Washington, DC, using large commercial aircraft as weapons. In response to the attacks and intelligence information subsequently obtained, the Commission issued a number of Safeguards and Threat Advisories to its licensees, to strengthen licensees' capabilities and readiness to respond to a potential attack on a nuclear facility. The Commission has also communicated with other Federal, State, and local government agencies and industry representatives, to discuss and evaluate the current threat environment, to assess the adequacy of security measures at licensed facilities. In addition, the Commission has been conducting a comprehensive review of its safeguards and security programs and requirements.

As a result of its consideration of current safeguards and security plan requirements, as well as a review of information provided by the intelligence community, the Commission has determined that the Licensee must implement certain additional prudent measures to address the current threat environment. Therefore, the Commission is imposing requirements, set forth in Attachments 1 and 2 ¹ of this Order, which supplement existing regulatory requirements, to provide the Commission with reasonable assurance that the public health and safety and common defense and security continue to be adequately protected in the current threat environment. These requirements will remain in effect until the Commission determines otherwise.

¹ Attachments 1 and 2 contain safeguards information and will not be released to the public.

The Commission recognizes that some of the requirements set forth in Attachments 1 and 2 ² to this Order may already have been initiated by the Licensee on its own. It is also recognized that some measures may need to be tailored to specifically accommodate the specific circumstances and characteristics, existing at the licensee's facility, to achieve the intended objectives and avoid any unforeseen effect on safe operation.

² To the extent that specific measures identified in the Attachments to this Order require actions pertaining to the Licensee's possession and use of chemicals, such actions are being directed on the basis of the potential impact of such chemicals on radioactive materials and activities subject to NRC regulation.

In light of the current threat environment, the Commission concludes that the Additional Security Measures must be embodied in an Order, consistent with the established regulatory framework. To provide assurance that the Licensee is implementing prudent measures to achieve an adequate level of protection to address the current threat environment, SNM-2011 shall be modified to include the requirements identified in Attachments 1 and 2 to this Order. In addition, pursuant to 10 CFR 2.202 and 70.81, I find that, in light of the circumstances described above, the public health, safety, and interest, and the common defense and security require that this Order be immediately effective.

III

Accordingly, pursuant to Sections 53, 62, 63, 81, 147, 149, 161b, 161i, 161o, 182, and 186 of the AEA of 1954, as amended, and the Commission's regulations in 10 CFR 2.202 and 10 CFR Parts 30, 40, and 70, it is hereby ordered, effective immediately, that material license SNM-2011 is modified as follows:

A. The Licensee shall, notwithstanding the provisions of any Commission regulation to the contrary, comply with the requirements described in Attachments 1 and 2 to this Order. The Licensee shall immediately start implementation of the requirements in Attachments 1 and 2 to the Order and shall complete implementation, unless otherwise specified in Attachments 1 and 2 to this order, no later than six (6) months before facility operation.

B. 1. The Licensee shall, within twenty (20) days of the date of this Order, notify the Commission; (1) If it is unable to comply with any of the requirements described in the Attachment; (2) if compliance with any of the requirements is unnecessary in its specific circumstances; or (3) if implementation of any of the requirements would cause the Licensee to be in violation of the provisions of any Commission regulation or its license. The notification shall provide the Licensee's justification for seeking relief from, or variation of, any specific requirement.

2. If the Licensee considers that implementation of any of the requirements described in Attachments 1 and 2 to this Order would adversely affect safe operation of its facility, the Licensee must notify the Commission, within twenty (20) days of this Order, of the adverse safety impact, the basis for its determination that the requirement has an adverse safety impact, and either a proposal for achieving the same objectives, specified in Attachments 1 and 2, in question, or a schedule for modifying the facilities, to address the adverse safety condition. If neither approach is appropriate, the Licensee must supplement its response to Condition B1 of this Order, to identify the condition as a requirement with which it cannot comply, with attendant justifications, as required in Condition B1.

C. 1. The Licensee shall, within twenty (20) days of the date of this Order, submit to the Commission, a schedule for achieving compliance with each requirement described in the Attachment.

2. The Licensee shall report to the Commission when it has achieved full compliance with the requirements described in the Attachment.

D. Notwithstanding any provision of the Commission's regulations to the contrary, all measures implemented or actions taken in response to this Order shall be maintained until the Commission determines otherwise.

The Licensee's response to Conditions B.1, B.2, C.1, and C.2, above, shall be submitted in accordance with 10 CFR 70.5. In addition, the Licensee's submittals that contain Safeguards Information shall be properly marked and handled in accordance with the Order issued on October 4, 2006, requiring a program for protecting Safeguards Information.

The Director, Office of Nuclear Material Safety and Safeguards, may, in writing, relax or rescind any of the above conditions upon demonstration by the Licensee of good cause.

IV

In accordance with 10 CFR 2.202, the Licensee must, and any other person adversely affected by this Order, may submit an answer to this Order, and may request a hearing on this Order, within twenty (20) days of the date of this Order. Where good cause is shown, consideration will be given to extending the time to request a hearing. A request for extension of time in which to submit an answer or request a hearing must be made in writing to the Director, Office of Nuclear Material Safety and Safeguards, U.S. Nuclear Regulatory Commission, Washington, DC 20555, and include a statement of good cause for the extension. The answerer may consent to this Order. Unless the answerer consents to this Order, the answerer shall, in writing and under oath or affirmation, specifically set forth the matters of fact and law on which the Licensee or other person adversely affected relies and the reasons as to why the Order should not have been issued. Any answer or request for a hearing shall be submitted to the Secretary, Office of the Secretary of the Commission, U.S. Nuclear Regulatory Commission, ATTN: Rulemakings and Adjudications Staff, Washington, DC 20555. Copies also shall be sent to the Director, Office of Nuclear Material Safety and Safeguards, and the Director, Office of Enforcement, U.S. Nuclear Regulatory Commission, Washington, DC 20555; to the Assistant General Counsel for Materials Litigation and Enforcement, at the same address; to the Regional Administrator, NRC Region II, 61 Forsyth Street, SW., Suite 23T85, Atlanta, GA 30303-8931; and to the Licensee, if the answer or hearing request is by a person other than the Licensee. Because of possible disruptions in delivery of mail to United States Government offices, it is requested that answers and requests for hearing be transmitted to the Secretary of the Commission, either by means of facsimile transmission, to 301-415-1101, or by e-mail, to hearingdocket@nrc.gov, and also to the Office of the General Counsel either by means of facsimile transmission, to 301-415-3725, or by e-mail, to OGCMailCenter@nrc.gov.

If a person other than the Licensee requests a hearing, that person shall set forth with particularity the manner in which his interest is adversely affected by this Order and shall address the criteria set forth in 10 CFR 2.309.

If a hearing is requested by the Licensee or a person whose interest is adversely affected, the Commission will issue an Order designating the time and place of any hearing. If a hearing is held, the issue to be considered at such hearing shall be whether this Order should be sustained.

Pursuant to 10 CFR 2.202(c)(2)(i), the Licensee may, in addition to demanding a hearing, at the time the answer is filed or sooner, move to set aside the immediate effectiveness of the Order, on the grounds that the Order, including the need for immediate effectiveness, is not based on adequate evidence, but on mere suspicion, unfounded allegations, or error.

In the absence of any request for hearing, or written approval of an extension of time in which to request a hearing, the provisions specified in Section III above shall be final twenty (20) days from the date of this Order, without further order or proceedings. If an extension of time for requesting a hearing has been approved, the provisions specified in Section III shall be final when the extension expires, if a hearing request has not been received.

An answer or a request for hearing shall not stay the immediate effectiveness of this order.

Dated: July 5, 2007.
For the Nuclear Regulatory Commission.
Michael F. Weber,
Director, Office of Nuclear Material Safety and Safeguards.

[FR Doc. 07-3403 Filed 7-11-07; 8:45 am]

BILLING CODE 4590-01-P